DEPARTMENT OF COMMERCE

Patent and Trademark Office

Agency Information Collection Activities; Submission to the Office of Management and Budget (OMB) for Review and Approval; Comment Request; Trademark Petitions

The United States Patent and Trademark Office (USPTO) will submit the following information collection request to the OMB for review and clearance in accordance with the Paperwork Reduction Act of 1995, on or after the date of publication of this notice. The USPTO invites comment on this information collection renewal, which helps the USPTO assess the impact of its information collection requirements and minimize the public's reporting burden. Public comments were previously requested via the Federal Register on May 3, 2021 during a 60-day comment period. This notice allows for an additional 30 days for public comments.

Agency: United States Patent and Trademark Office, Department of Commerce.

Title: Trademark Petitions.

OMB Control Number: 0651-0061.

Forms Numbers:

• PTO 2303 (Letter of Protest)

• PTO 2304 (Request to Make Special)

• PTO 2305 (Response to Petition to Director Inquiry Letter)

• PTO 2306 (Petition to Make Special)

• PTO 2307 (Request to Restore Filing Date)

• PTO 2308 (Request for Reinstatement)

Type of Review: Extension and revision of a currently approved information collection.

Estimated Number of Respondents: 6,221 respondents per year.

Estimated Number of Responses: 6,221 responses per year.

Estimated Time per Response: The USPTO estimates that it takes the public between 40 minutes (0.67 hours) to 75 minutes (1.25 hours), depending on the complexity of the situation, to gather the necessary information, prepare the appropriate documents, and submit the information to the USPTO.

Estimated Total Annual Respondent Burden Hours: 6,953 hours.

Estimated Total Annual Non-hour Respondent Cost Burden: $393,875.

Needs and Uses: The public uses this information collection for a variety of private business purposes related to establishing and enforcing trademark rights. The USPTO uses the information described in this information collection to process letters of protest, requests to make special, responses to petition inquiry letters, petitions to make special, requests to restore a filing date, and requests for reinstatement. Information relating to the registration of a trademark is made publicly available by the USPTO. The release of information in a letter of protest is controlled and may be available upon request only.

Affected Public: Private sector; individuals or households.

Frequency: On occasion.

Respondent's Obligation: Required to obtain or retain benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0061.

Further information can be obtained by:

• Email: InformationCollection@uspto.gov. Include “0651-0061 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2021-19996 Filed 9-15-21; 8:45 am]

BILLING CODE 3510-16-P